DEPARTMENT OF TRANSPORTATION

Federal Motor Carrier Safety Administration

[Docket No. FMCSA-2007-27897]

Qualification of Drivers; Exemption Applications; Vision

AGENCY: Federal Motor Carrier Safety Administration (FMCSA), DOT.

ACTION: Notice of applications for exemptions; request for comments.

SUMMARY: FMCSA announces receipt of applications from 64 individuals for exemptions from the vision requirement in the Federal Motor Carrier Safety Regulations. If granted, the exemptions would enable these individuals to qualify as drivers of commercial motor vehicles (CMVs) in interstate commerce without meeting the Federal vision standard.

DATES: Comments must be received on or before August 20, 2007.

ADDRESSES: You may submit comments identified by Department of Transportation (DOT) Docket Management System (DMS) Docket Number FMCSA-2007-27897 using any of the following methods:

• Web Site: http://dmses.dot.gov/submit. Follow the instructions for submitting comments on the DOT electronic docket site.

• Fax: 1-202-493-2251.

• Mail: Docket Management Facility; U.S. Department of Transportation, 1200 New Jersey Avenue, SE., West Building, Ground Floor, Room W12-140, Washington, DC 20590-0001.

• Hand Delivery: Room W12-140 on the ground level of the West Building, 1200 New Jersey Avenue, SE., Washington, DC, between 9 a.m. and 5 p.m., Monday through Friday, except Federal holidays.

• Federal eRulemaking Portal: Go to http://www.regulations.gov. Follow the online instructions for submitting comments.

Instructions: All submissions must include the Agency name and docket number for this notice. Note that all comments received will be posted without change to http://dms.dot.gov including any personal information provided. Please see the Privacy Act heading for further information.

Docket: For access to the docket to read background documents or comments received, go to http://dms.dot.gov at any time or Room W12-140 on the ground level of the West Building, 1200 New Jersey Avenue, SE., Washington, DC, between 9 a.m. and 5 p.m., Monday through Friday, except Federal holidays. The DMS is available 24 hours each day, 365 days each year. If you want acknowledgment that we received your comments, please include a self-addressed, stamped envelope or postcard or print the acknowledgement page that appears after submitting comments on-line.

Privacy Act: Anyone may search the electronic form of all comments received into any of our dockets by the name of the individual submitting the comment (or of the person signing the comment, if submitted on behalf of an association, business, labor union, etc.). You may review the DOT's complete Privacy Act Statement in the Federal Register published on April 11, 2000 (65 FR 19477; Apr. 11, 2000). This information is also available at http://dms.dot.gov.

FOR FURTHER INFORMATION CONTACT: Dr. Mary D. Gunnels, Chief, Physical Qualifications Division, 202-366-4001, FMCSA, Room W64-224, U.S. Department of Transportation, 1200 New Jersey Avenue, SE., Washington, DC 20590-0001. Office hours are from 8:30 a.m. to 5 p.m. Monday through Friday, except Federal holidays.

SUPPLEMENTARY INFORMATION:

Background

Under 49 U.S.C. 31136(e) and 31315, FMCSA may grant an exemption for a 2-year period if it finds “such exemption would likely achieve a level of safety that is equivalent to, or greater than, the level that would be achieved absent such exemption.” FMCSA can renew exemptions at the end of each 2-year period. The 64 individuals listed in this notice each have requested an exemption from the vision requirement in 49 CFR 391.41(b)(10), which applies to drivers of CMVs in interstate commerce. Accordingly, the Agency will evaluate the qualifications of each applicant to determine whether granting the exemption will achieve the required level of safety mandated by statute.

Qualifications of Applicants

John W. Black

Mr. Black, age 43, has loss of vision in his right eye due to a traumatic injury sustained as a child. The visual acuity in his right eye is light perception vision and in the left, 20/20. Following an examination in 2006, his ophthalmologist noted, “In my medical opinion John has sufficient vision to perform the driving task required to operate a commercial vehicle.” Mr. Black reported that he has driven straight trucks for 5 years, accumulating 120,000 miles, and tractor-trailer combinations for 11 years, accumulating 550,000 miles. He holds a Class A Commercial Driver's License (CDL) from Arizona. His driving record for the last 3 years shows no crashes and no convictions for moving violations in a CMV.

Ronald D. Boeve

Mr. Boeve, 54, has had amblyopia in his left eye since childhood. The best corrected visual acuity in his right eye is 20/20 and in the left, 20/200. Following an examination in 2006, his optometrist noted, “In my professional opinion, Ron Boeve has ample vision to perform the driving tasks required to operate a commercial vehicle as he has done for 30 years with no change in his visual condition.” Mr. Boeve reported that he has driven tractor-trailer combinations for 33 years, accumulating 3.3 million miles. He holds a Class A CDL from Michigan. His driving record for the last 3 years shows no crashes and no convictions for moving violations in a CMV.

Paul T. Breitigan

Mr. Breitigan, 55, has loss of vision in his right eye due to histoplasmosis with choroidal neovascularization since 2003. The best corrected visual acuity in his right eye is 20/200 and in the left, 20/20. Following an examination in 2006, his ophthalmologist noted, “Your visual acuity qualifies for legal driving vision. This vision is sufficient to perform the driving tasks required to operate a commercial vehicle.” Mr. Breitigan reported that he has driven tractor-trailer combinations for 31 years, accumulating 3.7 million miles. He holds a Class A CDL from Ohio. His driving record for the last 3 years shows no crashes and no convictions for moving violations in a CMV.

John A. Bridges

Mr. Bridges, 44, has had ambylopia in his right eye since childhood. The best corrected visual acuity in his right eye is 20/80 and in the left, 20/20. Following an examination in 2006, his ophthalmologist noted, “Mr. Bridges meets all CDL requirements and I can easily certify that he has sufficient vision to perform driving tasks required to operate a commercial vehicle.” Mr. Bridges reported that he has driven straight trucks for 20 years, accumulating 400,000 miles. He holds a Class A CDL from Georgia. His driving record for the last 3 years shows no crashes and no convictions for moving violations in a CMV.

Edward G. Brown

Mr. Brown, 79, has loss of vision in his right eye due to age-related macular degeneration since 2001. The best corrected visual acuity in his right eye is 20/60 and in the left, 20/30. Following an examination in 2007, his optometrist noted, “In my medical opinion, Mr. Brown has sufficient vision to perform the driving tasks required to operate a commercial vehicle.” Mr. Brown reported that he has driven tractor-trailer combinations for 19 years, accumulating 760,000 miles. He holds a Class A CDL from Ohio. His driving record for the last 3 years shows no crashes and no convictions for moving violations in a CMV.

Edwin L. Bupp

Mr. Bupp, 36, has had amblyopia in his left eye since childhood. The best corrected visual acuity in his right eye is 20/20 and in the left, 20/200. Following an examination in 2007, his optometrist noted, “When considering Mr. Bupp's examination results and comparing the criteria set up by your department, I believe he has sufficient vision to perform the driving tasks required to operate a commercial vehicle.” Mr. Bupp reported that he has driven tractor-trailer combinations for 13 years, accumulating 2 million miles. He holds a Class A CDL from Pennsylvania. His driving record for the last 3 years shows no crashes and no convictions for moving violations in a CMV.

Charles E. Castle

Mr. Castle, 65, has complete loss of vision in his right eye due to a traumatic injury sustained as a child. The best corrected visual acuity in his left eye is 20/25. Following an examination in 2007, his optometrist noted, “I certify that this patient's visual status is sufficient to perform driving tasks required to operate a commercial vehicle.” Mr. Castle reported that he has driven straight trucks for 9 years, accumulating 900,000 miles, and tractor-trailer combinations for 13 years, accumulating 910,000 miles. He holds a Class A CDL from Ohio. His driving record for the last 3 years shows one crash, which he was cited for, and no convictions for moving violations in a CMV.

Joel C. Conrad

Mr. Conrad, 47, has had amblyopia in his left eye since birth. The best corrected visual acuity in his right eye is 20/20 and in the left, 20/60. Following an examination in 2007, his ophthalmologist noted, “In my medical opinion, Joel Conrad has sufficient vision to perform the driving tasks to operate a commercial vehicle.” Mr. Conrad reported that he has driven buses for 10 years, accumulating 120,000 miles. He holds a Class B CDL from New York. His driving record for the last 3 years shows no crashes and no convictions for moving violations in a CMV.

Duane C. Conway

Mr. Conway, 57, has complete loss of vision in his right eye due to a retinal detachment sustained approximately 30 years ago. The visual acuity in his right eye is 20/20. Following an examination in 2006, his ophthalmologist noted, “Mr. Conway's vision has been sufficient for him to obtain and operate commercial vehicles for decades. His vision is unchanged. Therefore, in my opinion, he still has sufficient vision to perform the driving tasks required to operate a commercial vehicle.” Mr. Conway reported that he has driven straight trucks for 6 years, accumulating 288,000 miles, and tractor-trailer combinations for 8 years, accumulating 800,000 miles. He holds a Class A CDL from Nevada. His driving record for the last 3 years shows no crashes and no convictions for moving violations in a CMV.

David L. Cummings

Mr. Cummings, 54, has complete loss of vision in his left eye due to a traumatic injury sustained as a child. The visual acuity in his right eye is 20/20. Following an examination in 2006, his optometrist noted, “I believe he has sufficient vision to operate a commercial vehicle.” Mr. Cummings reported that he has driven straight trucks for 24 years, accumulating 600,000 miles, and tractor-trailer combinations for 9 years, accumulating 45,000 miles. He holds a Class A CDL from Illinois. His driving record for the last 3 years shows no crashes and one conviction for a moving violation, speeding in a CMV. He exceeded the speed limit by 12 mph.

Brian W. Curtis

Mr. Curtis, 52, has had amblyopia in his right eye since birth. The best corrected visual acuity in his right eye is 20/60 and in the left, 20/20. Following an examination in 2007, his optometrist noted, “Brian should not have any visual difficulties performing the driving tasks required for a commercial vehicle.” Mr. Curtis reported that he has driven straight trucks for 34 years, accumulating 884,000 miles. He holds a Class B CDL from Illinois. His driving record for the last 3 years shows no crashes and no convictions for moving violations in a CMV.

Roger D. Davidson, Sr.

Mr. Davidson, 50, has had amblyopia in his right eye since childhood. The best corrected visual acuity in his right eye is 20/200 and in the left, 20/15. Following an examination in 2007, his optometrist noted, “In my opinion, Mr. Davidson is ok to drive a commercial vehicle.” Mr. Davidson reported that he has driven tractor-trailer combinations for 10 years, accumulating 1 million miles, and buses for 3 years, accumulating 120,000 miles. He holds a Class A CDL from Illinois. His driving record for the last 3 years shows no crashes and one conviction for a moving violation in a CMV, failure to obey a traffic signal.

Richard A. Davis, Sr.

Mr. Davis, 57, has complete loss of vision in his left eye due to a traumatic injury sustained as a child. The visual acuity in his right eye is 20/20. Following an examination in 2006, his optometrist noted, “I feel Mr. Davis has sufficient vision to perform the driving task of a commercial vehicle with the restriction of passenger and driver side mirrors.” Mr. Davis reported that he has driven straight trucks for 19 years, accumulating 760,000 miles. He holds a Class B CDL from Illinois. His driving record for the last 3 years shows no crashes and no convictions for moving violations in a CMV.

Thomas E. Dixon

Mr. Dixon, 43, has a prosthetic left eye due to a traumatic injury sustained as a child. The best corrected visual acuity in his right eye is 20/20. Following an examination in 2006, his ophthalmologist noted, “In my medical opinion, he has sufficient vision to perform the driving tasks required to operate a commercial vehicle.” Mr. Dixon reported that he has driven straight trucks for 15 years, accumulating 622,500 miles. He holds a Class B CDL from Michigan. His driving record for the last 3 years shows no crashes and one conviction for a moving violation, speeding in a CMV. He exceeded the speed limit by 15 mph.

Robin C. Duckett

Mr. Duckett, 51, has complete loss of vision in his left eye due to phthisis bulbi, secondary to probable congenital inflammation. The visual acuity in his right eye is 20/20. Following an examination in 2007, his ophthalmologist noted, “Because the poor vision in his left eye was present at birth, Mr. Duckett has adjusted and developed monocular cues allowing him to function similarly to individuals with regular binocular vision. He does not have difficulty judging distance. He has apparently been a very safe driver. I think he should be considered for a waiver concerning truck driving certification limited by poor vision in one eye.” Mr. Duckett reported that he has driven tractor-trailer combinations for 31 years, accumulating 1.4 million miles. He holds a Class A CDL from South Carolina. His driving record for the last 3 years shows no crashes and no convictions for moving violations in a CMV.

Steven C. Durst

Mr. Durst, 56, has complete loss of vision in his left eye due to a corneal scar resulting from a traumatic injury sustained as a child. The visual acuity in his right eye is 20/20. Following an examination in 2007, his optometrist noted, “Mr. Durst has had poor visual acuity in his left eye since the age of thirteen and has performed the tasks of driving a commercial vehicle for some time without change in his visual status. I believe, based on the results of this examination, that he has sufficient visual capabilities to continue to do so.” Mr. Durst reported that he has driven straight trucks for 2 years, accumulating 2,000 miles, and tractor-trailer combinations for 30 years, accumulating 2 million miles. He holds a Class A CDL from Ohio. His driving record for the last 3 years shows no crashes and two convictions for moving violations, one for an improper turn in a CMV and one for speeding in a CMV. He exceeded the speed limit by 11 mph.

Marco A. Esquivel

Mr. Esquivel, 46, has loss of vision in his left eye due to a traumatic injury sustained as a child. The visual acuity in his right eye is 20/20 and in the left, 20/150. Following an examination in 2006, his optometrist noted, “I certify that Mr. Esquivel has sufficient vision to perform driving tasks required to operate a commercial vehicle.” Mr. Esquivel reported that he has driven straight trucks for 9 years, accumulating 198,000 miles, and tractor-trailer combinations for 7 years, accumulating 210,000 miles. He holds a Class C operator's license from California. His driving record for the last 3 years shows one crash and no convictions for moving violations in a CMV.

Charles D. Grady

Mr. Grady, 45, has a retinal scar on his left eye due to a traumatic injury sustained as a child. The best corrected visual acuity in his right eye is 20/15 and in the left, 20/400. Following an examination in 2006, his optometrist noted, “I certify that Mr. Grady's visual deficiency is stable and that he has adequate vision and visual fields to drive tractor-trailers.” Mr. Grady reported that he has driven straight trucks for 5 years, accumulating 25,000 miles, and tractor-trailer combinations for 20 years, accumulating 2 million miles. He holds a Class C operator's license from Georgia. His driving record for the last 3 years shows no crashes and no convictions for moving violations in a CMV.

Paul L. Graunstadt

Mr. Graunstadt, 62, has had amblyopia in his left eye since birth. The best corrected visual acuity in his right eye is 20/20 and in the left, 20/400. Following an examination in 2007, his optometrist noted, “In summary, my professional opinion is Mr. Graunstadt has sufficient vision to perform driving tasks as required to operate a commercial vehicle.” Mr. Graunstadt reported that he has driven straight trucks for 38 years, accumulating 1.3 million miles. He holds a Class C chauffeur's license from Michigan. His driving record for the last 3 years shows no crashes and no convictions for moving violations in a CMV.

Danny R. Gray

Mr. Gray, 41, has loss of vision in his right eye due to a spontaneous retinal detachment in 1996. The best corrected visual acuity in his right eye is count-finger vision and in the left, 20/15. Following an examination in 2007, his optometrist noted, “In my professional opinion, Mr. Gray does have sufficient vision to perform the driving tasks required to operate a commercial vehicle as his left eye has vision correctable to 20/15.” Mr. Gray reported that he has driven straight trucks for 11 years, accumulating 165,000 miles, and tractor-trailer combinations for 8 years, accumulating 136,000 miles. He holds a Class D operator's license from Oklahoma. His driving record for the last 3 years shows no crashes and no convictions for moving violations in a CMV.

Louis E. Henry, Jr.

Mr. Henry, 52, has had amblyopia in his left eye since childhood. The best corrected visual acuity in his right eye is 20/20 and in the left, 20/200. Following an examination in 2007, his optometrist noted, “Visually able to operate commercial vehicle.” Mr. Henry reported that he has driven straight trucks for 7 years, accumulating 350,000 miles, and tractor trailer combinations for 3 months, accumulating 5,000 miles. He holds a Class A CDL from Kentucky. His driving record for the last 3 years shows no crashes and no convictions for moving violations in a CMV.

Raymond L. Herman

Mr. Herman, 23, has had amblyopia in his right eye since birth. The visual acuity in his right eye is 20/400 and in the left, 20/20. Following an examination in 2007, his optometrist noted, “I certify, in my medical opinion, that Mr. Herman has sufficient vision to perform the driving tasks required to operate a commercial vehicle.” Mr. Herman reported that he has driven straight trucks for 4 years, accumulating 140,000 miles. He holds a Class B CDL from New York. His driving record for the last 3 years shows one crash and one conviction for a moving violation in a CMV, failure to obey a traffic device.

Jesse R. Hillhouse, Jr.

Mr. Hillhouse, 40, has had amblyopia in his left eye since birth. The best corrected visual acuity in his right eye is 20/25 and in the left, 20/70. Following an examination in 2007, his optometrist noted, “It is my opinion that with corrective lenses, Mr. Hillhouse does have sufficient vision to perform the driving tasks required to operate a commercial vehicle.” Mr. Hillhouse reported that he has driven straight trucks for 31/2 years, accumulating 136,500 miles. He holds a Class B CDL from Oklahoma. His driving record for the last 3 years shows no crashes and no convictions for moving violations in a CMV.

Billy R. Holdman

Mr. Holdman, 49, has loss of vision in his left eye due to a central retinal vein occlusion since 2000. The visual acuity in his right eye is 20/20 and in the left, 20/80. Following an examination in 2007, his ophthalmologist noted, “In my opinion, he has sufficient vision to perform the driving tasks required to operate a commercial vehicle.” Mr. Holdman reported that he has driven straight trucks for 19 years, accumulating 570,000 miles, and tractor-trailer combinations for 10 years, accumulating 52,000 miles. He holds a Class A CDL from Illinois. His driving record for the last 3 years shows no crashes and no convictions for moving violations in a CMV.

Marshall L. Jackson

Mr. Jackson, 49, has had constant alternating exotropia since birth. The best corrected visual acuity in his right eye is 20/25 and in the left, 20/20. Due to his condition, Mr. Jackson lacks binocular vision. Following an examination in 2007, his optometrist noted, “It is my opinion that this patient's safe operation of a commercial vehicle would not be hindered by his visual status.” Mr. Jackson reported that he has driven straight trucks for 23 years, accumulating 1.5 million miles, and tractor-trailer combinations for 1 year, accumulating 15,000 miles. He holds a Class A CDL from Texas. His driving record for the last 3 years shows no crashes and no convictions for moving violations in a CMV.

Ray C. Johnson

Mr. Johnson, 47, has a prosthetic right eye due to a traumatic injury sustained in 1999. The visual acuity in his left eye is 20/20. Following an examination in 2006, his ophthalmologist noted, “In my opinion, even though the patient only has one eye, he has sufficient vision to perform the driving tests required to operate a commercial vehicle.” Mr. Johnson reported that he has driven straight trucks for 6 years, accumulating 420,000 miles, and tractor-trailer combinations for 15 years, accumulating 1.2 million miles. He holds a Class A CDL from Arkansas. His driving record for the last 3 years shows no crashes and no convictions for moving violations in a CMV.

Terry R. Jones

Mr. Jones, 33, has had amblyopia in his left eye since birth. The best corrected visual acuity in his right eye is 20/20 and in the left, 20/60. Following an examination in 2007, his optometrist noted, “I certainly believe that Mr. Jones has sufficient vision to operate a commercial vehicle.” Mr. Jones reported that he has driven straight trucks for 10 years, accumulating 343,000 miles. He holds a Class A CDL from Missouri. His driving record for the last 3 years shows no crashes and no convictions for moving violations in a CMV.

Randall H. Keil

Mr. Keil, 54, has loss of vision in his left eye due to an episode of papillitis that occurred in 1999. The best corrected visual acuity in his right eye is 20/20 and in the left, 20/30. The horizontal field of vision in his right eye is 110 degrees and in the left, 35 degrees. Following an examination in 2006, his optometrist noted, “Based on my findings, I feel that his patient has sufficient vision to perform the driving tests required to operate a commercial vehicle.” Mr. Keil reported that he has driven straight trucks for 29 years, accumulating 100,050 miles. He holds a Class C operator's license from California. His driving record for the last 3 years shows no crashes and no convictions for moving violations in a CMV.

Gregory K. Lilly

Mr. Lilly, 46, has loss of vision in his left eye due to a traumatic injury sustained in 2002. The visual acuity in his right eye is 20/20 and in the left, 20/200. Following an examination in 2007, his ophthalmologist noted, “He has been working as a commercial driver since his injury. I am confident he has sufficient vision to perform his driving tasks.” Mr. Lilly reported that he has driven straight trucks for 5 years, accumulating 125,000 miles, and tractor-trailer combinations for 24 years, accumulating 1.8 million miles. He holds a Class A CDL from West Virginia. His driving record for the last 3 years shows no crashes and no convictions for moving violations in a CMV.

Paul G. Mathes

Mr. Mathes, 59, has loss of vision in his left eye due to a focal thermal injury sustained in 1991. The best corrected visual acuity in his right eye is 20/20 and in the left, 20/50. Following an examination in 2007, his optometrist noted, “It is my judgment that Mr. Paul Graham Mathes has sufficient vision to perform the driving tasks required to operate a commercial vehicle.” Mr. Mathes reported that he has driven straight trucks for 10 years, accumulating 45,000 miles, and tractor trailer combinations for 10 years, accumulating 500,000 miles. He holds a Class A CDL from Washington. His driving record for the last 3 years shows no crashes and no convictions for moving violations in a CMV.

John T. McWilliams

Mr. McWilliams, 49, has had amblyopia in his left eye since birth. The best corrected visual acuity in his right eye is 20/20 and in the left, 20/60. Following an examination in 2007, his optometrist noted, “In my opinion, John has sufficient vision to operate a commercial vehicle as he has for many years.” Mr. McWilliams reported that he has driven straight trucks for 32 years, accumulating 640,000 miles. He holds a Class C operator's license from Iowa. His driving record for the last 3 years shows no crashes and no convictions for moving violations in a CMV.

Robert A. Miller

Mr. Miller, 60, has had amblyopia in his left eye since childhood. The best corrected visual acuity in his right eye is 20/20 and in the left, 20/60. Following an examination in 2006, his optometrist noted, “Mr. Miller does have sufficient vision to safely operate a commercial vehicle, subject, of course, to Kentucky driver qualification requirements.” Mr. Miller reported that he has driven tractor-trailer combinations for 34 years, accumulating 5 million miles. He holds a Class A CDL from Kentucky. His driving record for the last 3 years shows one crash and one conviction for a moving violation, speeding in a CMV. He exceeded the speed limit by 11 mph.

Rodney R. Miller

Mr. Miller, 49, has had amblyopia in his left eye since childhood. The visual acuity in his right eye is 20/20 and in the left, 20/200. Following an examination in 2007, his optometrist noted, “In my opinion, Mr. Miller has sufficient vision to operate a commercial vehicle.” Mr. Miller reported that he has driven straight trucks for 33 years, accumulating 3 million miles, and tractor-trailer combinations for 33 years, accumulating 3 million miles. He holds a Class A CDL from Pennsylvania. His driving record for the last 3 years shows no crashes and no convictions for moving violations in a CMV.

Stuart T. Miller

Mr. Miller, 46, has a prosthetic left eye due to a traumatic injury sustained as a child. The best corrected visual acuity in his right eye is 20/20. Following an examination in 2007, his ophthalmologist noted, “Mr. Miller's vision is stable and in my opinion his vision is sufficient to perform the driving tests required to operate a commercial vehicle.” Mr. Miller reported that he has driven straight trucks for 25 years, accumulating 500,000 miles, and tractor-trailer combinations for 25 years, accumulating 2.5 million miles. He holds a Class A CDL from Florida. His driving record for the last 3 years shows no crashes and no convictions for moving violations in a CMV.

James J. Mitchell

Mr. Mitchell, 45, has complete loss of vision in his right eye due to optic atrophy from a traumatic cataract sustained in 2003. The visual acuity in his left eye is 20/20. Following an examination in 2007, his optometrist noted, “In my opinion, Mr. Mitchell has sufficient vision to operate a commercial vehicle.” Mr. Mitchell reported that he has driven tractor-trailer combinations for 20 years, accumulating 2.5 million miles. He holds a Class A CDL from North Carolina. His driving record for the last 3 years shows no crashes and no convictions for moving violations in a CMV.

Terry W. Moore

Mr. Moore, 46, has complete loss of vision in his right eye due to amblyopia since birth. The visual acuity in his left eye is 20/20. Following an examination in 2006, his optometrist noted, “In my opinion, Mr. Moore has sufficient vision to operate a commercial vehicle.” Mr. Moore reported that he has driven straight trucks for 3 years, accumulating 45,000 miles. He holds a Class D chaffeur's license from Louisiana. His driving record for the last 3 years shows no crashes and no convictions for moving violations in a CMV.

Arnold R. Moreland

Mr. Moreland, 44, has had amblyopia in his left eye since birth. The best corrected visual acuity in his right eye is 20/20 and in the left, 20/400. Following an examination in 2006, his optometrist noted, “I certify in my medical opinion that Mr. Moreland has sufficient vision to perform driving tasks required to operate a commercial vehicle.” Mr. Moreland reported that he has driven straight trucks for 7 years, accumulating 504,000 miles, and tractor-trailer combinations for 5 years, accumulating 150,000 miles. He holds a Class A CDL from Virginia. His driving record for the last 3 years shows no crashes and no convictions for moving violations in a CMV.

Andrew M. Nurnberg

Mr. Nurnberg, 35, has complete loss of vision in his right eye due to optic nerve atrophy resulting from a traumatic injury sustained as a child. The visual acuity in his left eye is 20/20. Following an examination in 2007, his optometrist noted, “I, Dr. Scott A Baylard, feel in my medical opinion that he has sufficient vision to perform the driving tasks required to operate a commercial vehicle.” Mr. Miller reported that he has driven straight trucks for 7½ years, accumulating 450,000 miles. He holds a Class C operator's license from Georgia. His driving record for the last 3 years shows no crashes and no convictions for moving violations in a CMV.

Raymond K. Ochse

Mr. Ochse, 53, has loss of vision in his left eye due to strabismus since childhood. The visual acuity in his right eye is 20/20 and in the left, 20/60. Following an examination in 2007, his ophthalmologist noted, “In my opinion, I do not feel that there is any ocular reason for the patient not to be able to drive any vehicle, commercial or otherwise.” Mr. Ochse reported that he has driven straight trucks for 2 years, accumulating 60,000 miles, and tractor-trailer combinations for 32 years, accumulating 1.9 million miles. He holds a Class A CDL from New Jersey. His driving record for the last 3 years shows no crashes and no convictions for moving violations in a CMV.

Charles D. Oestreich

Mr. Oestreich, 44, had enucleation of his right eye due to cancer in 2003. The best corrected visual acuity in his left eye is 20/20. Following an examination in 2007, his ophthalmologist noted, “In my medical opinion, Mr. Oestrich has sufficient vision to perform the driving tests required to operate a commercial vehicle.” Mr. Oestreich reported that he has driven straight trucks for 14 years, accumulating 770,000 miles. He holds a Class A CDL from Minnesota. His driving record for the last 3 years shows no crashes and one conviction for a moving violation, speeding in a CMV. He exceeded the speed limit by 13 mph.

Robert G. Owens

Mr. Owens, 60, has had amblyopia in his left eye since childhood. The best corrected visual acuity in his right eye is 20/20 and in the left, 20/100. Following an examination in 2006, his optometrist noted, “In my opinion, Mr. Owens has sufficient vision, with his glasses on, to operate a commercial vehicle.” Mr. Owens reported that he has driven straight trucks for 30 years, accumulating 1.5 million miles, tractor-trailer combinations for 30 years, accumulating 2.3 million miles, and buses for 3 years, accumulating 45,000 miles. He holds a Class A CDL from Kentucky. His driving record for the last 3 years shows one crash and no convictions for moving violations in a CMV.

Kenneth R. Pedersen

Mr. Pedersen, 69, has loss of vision in his right eye due to a macular hole sustained in 2001. The best corrected visual acuity in his right eye is 20/200 and in the left, 20/20. Following an examination in 2006, his ophthalmologist noted, “It is my medical opinion that Mr. Pedersen has sufficient vision to perform driving tasks required for a commercial vehicle.” Mr. Pedersen reported that he has driven straight trucks for 46 years, accumulating 230,000 miles. He holds a Class B CDL from Montana. His driving record for the last 3 years shows no crashes and no convictions for moving violations in a CMV.

Joshua R. Perkins

Mr. Perkins, 25, has loss of vision in his left eye due to a retinal detachment as a result of a traumatic injury sustained as a child. The visual acuity in his right eye is 20/20 and in the left, 20/400. Following an examination in 2007, his ophthalmologist noted, “I see no reason why he would not be able to operate a commercial vehicle.” Mr. Perkins reported that he has driven straight trucks for 10 years, accumulating 150,000 miles, and tractor-trailer combinations for 7 years, accumulating 49,000 miles. He holds a Class D operator's license from Idaho. His driving record for the last 3 years shows no crashes and no convictions for moving violations in a CMV.

Donald F. Plouf

Mr. Plouf, 60, has loss of vision in his right eye due to a retinal detachment resulting from a traumatic injury sustained over 30 years ago. The best corrected visual acuity in his right eye is 20/400 and in the left, 20/20. Following an examination in 2007, his ophthalmologist noted, “It is my medical opinion that he has sufficient vision to perform the driving tasks required to operate a commercial vehicle.” Mr. Plouf reported that he has driven tractor-trailer combinations for 17 years, accumulating 2.3 million miles. He holds a Class A CDL from Florida. His driving record for the last 3 years shows no crashes and no convictions for moving violations in a CMV.

Willie L. Ponders

Mr. Ponders, 79, has loss of vision in his left eye since a traumatic injury sustained approximately 30 years ago. The best corrected visual acuity in his right eye is 20/20 and in the left, 20/60. Following an examination in 2007, his optometrist noted, “Mr. Ponders has sufficient vision to perform the driving tasks required to operate a commercial vehicle.” Mr. Ponders reported that he has driven straight trucks for 50 years, accumulating 1.2 million miles, and tractor-trailer combinations for 10 years, accumulating 1 million miles. He holds a Class C operator's license from Georgia. His driving record for the last 3 years shows no crashes and no convictions for moving violations in a CMV.

Eligio M. Ramirez

Mr. Ramirez, 41, has loss of vision in his left eye due to neovascular glaucoma since 1994. The best corrected visual acuity in his right eye is 20/20 and in the left, light perception. Following an examination in 2006, his ophthalmologist noted, “I certify that in my medical opinion he has sufficient vision to perform the driving tasks required to operate a commercial vehicle.” Mr. Ramirez reported that he has driven tractor-trailer combinations for 13 years, accumulating 1.9 million miles. He holds a Class A CDL from Texas. His driving record for the last 3 years shows no crashes and no convictions for moving violations in a CMV.

Victor C. Richert

Mr. Richert, 61, has loss of vision in his left eye due to a traumatic injury sustained as a child. The best corrected visual acuity in his right eye is 20/20 and in the left, 20/400. Following an examination in 2007, his optometrist noted, “There is no limitation on my exam to prevent Mr. Richert from successfully operating a commercial vehicle.” Mr. Richert reported that he has driven straight trucks for 43 years, accumulating 430,000 miles, and tractor-trailer combinations for 43 years, accumulating 2.6 million miles. He holds a Class A CDL from Oregon. His driving record for the last 3 years shows no crashes and one conviction for a moving violation, following too closely in a CMV.

Elvis E. Rogers, Jr.

Mr. Rogers, 34, has had amblyopia in his left eye since childhood. The visual acuity in his right eye is 20/20 and in the left, 20/200. Following an examination in 2007, his optometrist noted, “I, Guy R. Beavers, O.D., feel that in my medical opinion, Elvis Rogers has sufficient vision to perform the driving tasks required to operate a commercial vehicle.” Mr. Rogers reported that he has driven straight trucks for 2 years, accumulating 97,800 miles, and tractor-trailer combinations for 7 years, accumulating 944,400 miles. He holds a Class A CDL from Texas. His driving record for the last 3 years shows no crashes and no convictions for moving violations in a CMV.

Garry L. Rogers

Mr. Rogers, 58, has had amblyopia in his left eye since childhood. The best corrected visual acuity in his right eye is 20/20 and in the left, 20/150. Following an examination in 2006, his optometrist noted, “In my opinion, Mr. Rogers has sufficient vision to drive a commercial vehicle.” Mr. Rogers reported that he has driven straight trucks for 2 years, accumulating 23,500 miles, and tractor-trailer combinations for 9 years, accumulating 744,993 miles. He holds a Class A CDL from Colorado. His driving record for the last 3 years shows no crashes and no convictions for moving violations in a CMV.

Craig R. Saari

Mr. Saari, 45, has had amblyopia in his left eye since childhood. The best corrected visual acuity in his right eye is 20/20 and in the left, 20/60. Following an examination in 2007, his ophthalmologist noted, “I d o not feel that this visual deficiency in his left eye would prevent him from successfully operating a commercial vehicle.” Mr. Saari reported that he has driven tractor-trailer combinations for 21 years, accumulating 945,000 miles. He holds a Class A CDL from Minnesota. His driving record for the last 3 years shows no crashes and no convictions for moving violations in a CMV.

Jerry L. Schroder

Mr. Schroder, 65, has a prosthetic left eye due to a traumatic injury sustained as a child. The visual acuity in his right eye is 20/20. Following an examination in 2007, his optometrist noted, “His visual acuity plus his total degree of remaining visual field for his right eye would indicate to me he has sufficient vision to perform driving tasks that might be required to operate a commercial vehicle.” Mr. Schroder reported that he has driven straight trucks for 15 years, accumulating 750,000 miles, and tractor-trailer combinations for 40 years, accumulating 3 million miles. He holds a Class A CDL from Illinois. His driving record for the last 3 years shows no crashes and no convictions for moving violations in a CMV.

Gerald J. Shamla

Mr. Shamla, 66, has had amblyopia in his left eye since childhood. The best corrected visual acuity in his right eye is 20/20 and in the left, count-finger vision. Following an examination in 2007, his ophthalmologist noted, “In my opinion, the patient's visual functioning is stable and there is no reason to believe that this patient would have any difficulty performing the driving tasks required to operate a commercial motor vehicle in interstate commerce.” Mr. Shamla reported that he has driven straight trucks for 47 years, accumulating 549,900 miles. He holds a Class A CDL from Minnesota. His driving record for the last 3 years shows no crashes and no convictions for moving violations in a CMV.

Willie C. Smith

Mr. Smith, 58, has had amblyopia in his left eye since childhood. The best corrected visual acuity in his right eye is 20/20 and in the left, 20/60. Following an examination in 2007, his optometrist noted, “His vision in the right eye is fully correctable and his peripheral field of vision is within normal limits and should be more than adequate for commercial vehicle driving/operating.” Mr. Smith reported that he has driven tractor-trailer combinations for 38 years, accumulating 4.6 million miles. He holds a Class A CDL from Florida. His driving record for the last 3 years shows no crashes and no convictions for moving violations in a CMV.

Lanny R. Spears

Mr. Spears, 59, has a retinal scar in his left eye due to a traumatic injury sustained 34 years ago. The best corrected visual acuity in his right eye is 20/20 and in the left, 20/200. Following an examination in 2006, his optometrist noted, “In my opinion, Mr. Spears is able to see well enough to operate a commercial vehicle without glasses.” Mr. Spears reported that he has driven tractor-trailer combinations for 20 years, accumulating 2 million miles. He holds a Class A CDL from Mississippi. His driving record for the last 3 years shows no crashes and no convictions for moving violations in a CMV.

Lawrence E. Stabeno

Mr. Stabeno, 58, has had amblyopia in his left eye since childhood. The best corrected visual acuity in his right eye is 20/20 and in the left, 20/200. Following an examination in 2007, his optometrist noted, “I feel that he has sufficient vision to perform the driving tasks required to operate a commercial vehicle.” Mr. Stabeno reported that he has driven straight trucks for 19 years, accumulating 779,000 miles, and tractor-trailer combinations for 9 years, accumulating 156,600 miles. He holds a Class A CDL from Texas. His driving record for the last 3 years shows no crashes and no convictions for moving violations in a CMV.

Larry D. Steiner

Mr. Steiner, 49, has loss of vision in his left eye due to a traumatic injury sustained in 2001. The best corrected visual acuity in his right eye is 20/15 and in the left, 20/400. Following an examination in 2007, his optometrist noted, “I certify, in my opinion, that Mr. Steiner has sufficient vision to perform the driving tasks required to operate a commercial vehicle.” Mr. Steiner reported that he has driven tractor-trailer combinations for 22 years, accumulating 1.2 million miles. He holds a Class A CDL from Minnesota. His driving record for the last 3 years shows no crashes and no convictions for moving violations in a CMV.

Robert S. Swaen

Mr. Swaen, 37, has optic nerve damage in his left eye due to a traumatic injury sustained in 1997. The visual acuity in his right eye is 20/20 and in the left, 20/60. Following an examination in 2007, his ophthalmologist noted, “The patient has normal vision fields and in my opinion Mr. Swaen has sufficient vision to perform the driving tasks required to operate a commercial vehicle.” Mr. Swaen reported that he has driven straight trucks for 15 years, accumulating 1.2 million miles. He holds a Class B CDL from Wyoming. His driving record for the last 3 years shows no crashes and one conviction for a moving violation, speeding in a CMV. He exceeded the speed limit by 13 mph.

Robert L. Thies

Mr. Thies, 48, has loss of vision in his right eye due to myopia since childhood. The best corrected visual acuity in his right eye is 20/200 and in the left, 20/20. Following an examination in 2006, his ophthalmologist noted, “In my opinion, Mr. Thies does have sufficient vision to operate a commercial vehicle.” Mr. Thies reported that he has driven straight trucks for 25 years, accumulating 1.3 million miles, and tractor-trailer combinations for 25 years, accumulating 2.5 million miles. He holds a Class A CDL from Indiana. His driving record for the last 3 years shows no crashes and one conviction for a moving violation, speeding in a CMV. He exceeded the speed limit by 12 mph.

David R. Thomas

Mr. Thomas, 44, has complete loss of vision in his left eye due to a traumatic injury sustained in 1983. The visual acuity in his right eye is 20/20. Following an examination in 2007, his optometrist noted, “In my medical opinion, he has sufficient vision to perform the driving task required to operate a commercial vehicle.” Mr. Thomas reported that he has driven straight trucks for 26 years, accumulating 520,000 miles. He holds a Class B CDL from Alabama. His driving record for the last 3 years shows no crashes and no convictions for moving violation in a CMV.

Anthony T. Truiolo

Mr. Truiolo, 38, has complete loss of vision in his left eye due to a traumatic injury sustained as a child. The best corrected visual acuity in his right eye is 20/15. Following an examination in 2007, his ophthalmologist noted, “In my opinion, Mr. Truiolo has sufficient vision to perform the driving tasks required to operate a commercial vehicle.” Mr. Truiolo reported that he has driven straight trucks for 4½ years, accumulating 12,600 miles. He holds a Class D operator's license from Connecticut. His driving record for the last 3 years shows no crashes and no convictions for moving violations in a CMV.

Gregory A. VanLue

Mr. VanLue, 45, has a prosthetic left eye due to a traumatic injury sustained as a child. The best corrected visual acuity in his right eye is 20/15. Following an examination in 2007, his ophthalmologist noted, “It is my professional opinion that he be considered for a waiver to continue to drive commercially as requested.” Mr. VanLue reported that he has driven straight trucks for 8 years, accumulating 83,200 miles. He holds a Class D operator's license from Florida. His driving record for the last 3 years shows no crashes and no convictions for moving violations in a CMV.

Karl A. Weinert

Mr. Weinert, 48, has loss of vision in his right eye due to acute multifocal plaquoid pigment epitheliopathy in 1993. The best corrected visual acuity in his right eye is 20/100 and in the left, 20/20. Following an examination in 2007, his ophthalmologist noted, “It is my medical opinion that Karl Weinert has sufficient vision to perform driving tasks required to operate any commercial vehicle.” Mr. Weinert reported that he has driven straight trucks for 21 years, accumulating 945,000 miles. He holds a Class A CDL from New York. His driving record for the last 3 years shows no crashes and no convictions for moving violation in a CMV.

Ricky L. Wiginton

Mr. Wiginton, 39, has loss of vision in his right eye due to a traumatic injury sustained as a child. The best corrected visual acuity in his right eye is hand-movement vision and in the left, 20/20. Following an examination in 2006, his ophthalmologist noted, “At this time his visual acuity is stable, and he has sufficient vision to perform the driving tasks required to operate a commercial vehicle as long as he meets the criteria that you have set forth for allowing him to do so.” Mr. Wiginton reported that he has driven straight trucks for 12 years, accumulating 1.2 million miles, and tractor-trailer combinations for 8 years, accumulating 880,000 miles. He holds a Class A CDL from Texas. His driving record for the last 3 years shows no crashes and one conviction for a moving violation, speeding in a CMV. He exceeded the speed limit by 8 mph.

Kevin W. Wunderlin

Mr. Wunderlin, 51, has loss of vision in his left eye due to a retinal detachment sustained in 1977. The best corrected visual acuity in his right eye is 20/20 and in the left, 20/60. Following an examination in 2007, his optometrist noted, “In my opinion, Mr. Kevin Wunderlin is able to operate a commercial vehicle (as he has in Ohio the past year with this condition) and as he has done the past 20 years since his retinal detachment in the left eye.” Mr. Wunderlin reported that he has driven straight trucks for 5 years, accumulating 125,000 miles, and tractor-trailer combinations for 15 years, accumulating 1.1 million miles. He holds a Class A CDL from Ohio. His driving record for the last 3 years shows no crashes and no convictions for moving violations in a CMV.

Request for Comments

In accordance with 49 U.S.C. 31136(e) and 31315, FMCSA requests public comment from all interested persons on the exemption petitions described in this notice. The Agency will consider all comments received before the close of business August 20, 2007. Comments will be available for examination in the docket at the location listed under the ADDRESSES section of this notice. The Agency will file comments received after the comment closing date in the public docket, and will consider them to the extent practicable. In addition to late comments, FMCSA will also continue to file, in the public docket, relevant information that becomes available after the comment closing date. Interested persons should monitor the public docket for new material.

Issued on: July 13, 2007,
Pamela M. Pelcovits,
Acting Associate Administrator for Policy and Program Development.

[FR Doc. E7-14034 Filed 7-19-07; 8:45 am]

BILLING CODE 4910-EX-P